DEPARTMENT OF HEALTH AND HUMAN SERVICES

Administration for Community Living

Agency Information Collection Activities; Proposed Collection; Public Comment Request; State Health Insurance Assistance (SHIP) Program National Beneficiary Survey

AGENCY: Administration for Community Living, HHS.

ACTION: Notice.

SUMMARY: The Administration for Community Living (ACL) is announcing an opportunity for the public to comment on ACL's intention to collect information from the public related to the State Health Insurance Assistance (SHIP) Program. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Submit written comments on the collection of information by August 29, 2016.

ADDRESSES: Submit electronic comments on the collection of information to Katherine.Glendening@acl.hhs.gov. Submit written comments on the collection of information to Katherine Glendening, U.S. Administration for Community Living, 330 C Street SW., Washington, DC 20024.

FOR FURTHER INFORMATION CONTACT: Katherine Glendening, 202-795-7350.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

Proposed Collection: Evaluation of the State Health Insurance Assistance Program (SHIP), U.S. Department of Health and Human Services (HHS), U.S. Administration for Community Living (ACL).

Need and Use of Information Collection: The SHIP Customer Satisfaction Survey is a survey of individuals who meet with State Health Insurance Assistance Program (SHIP) Counselors to better understand their Medicare options. SHIP provides free, one-on-one counselling to the public, and the SHIP Customer Satisfaction Survey will be used to measure an individual's satisfaction with his/her counselling experience.

The State Health Insurance Assistance Program (SHIP) was created under Section 4360 of the Omnibus Budget Reconciliation Act (OBRA) of 1990 (Pub. L. 101-508). SHIP was created to provide grant funding to states, who in turn provide “. . . information, counseling, and assistance . . . to individuals who are eligible to receive benefits under title XVIII of the Social Security Act” (Medicare). SHIP grants help Medicare beneficiaries and their families obtain information about topics such as Medicare enrollment (Parts A and B), Medicare Advantage plans (Part C), prescription drug coverage (Part D), Medicare Savings Programs (MSPs), supplemental insurance policies (Medigap), Medicaid, and other health benefits questions and issues. The survey will gauge individuals' satisfaction with the services provided by SHIP counselors. While the SHIP program currently tracks the number of contacts the program makes with individual citizens, as well as descriptive information about counseling sessions such as topic, location, and beneficiary demographics, the program does not track outcome measurements including customer satisfaction.

The SHIP survey will be conducted over a three-year period beginning in Fiscal Year 2017 (FY17), with sites in each of the 50 states, the District of Colombia and the territories of Guam, Puerto Rico and the U.S. Virgin Islands being surveyed once during the three-year period. Results from the surveys will be used to understand satisfaction among individuals who receive SHIP Medicare assistance/counseling, as well, as how the program can be improved to provide better service to its target population. Eighteen (18) unique states will be surveyed in FY17, with each state expected to generate 75 unique responses, for a total of 1,350 individual responses in Year 1. This process will then be replicated in Year 2 (FY18) and Year 3 (FY19), with a different unique group of 18 states and territories being surveyed each year. By the end of FY19, SHIP will obtain 4,050 completed surveys to measure satisfaction at the state and national levels (18 states × 75 responses per state × 3 years).

SHIP will use the following factors to draw a representative sample of beneficiaries who received assistance/counseling:

• Review counseling sessions at two points each year:

○ One week in the spring (outside of the annual Medicare Open Enrollment Period)

○ One week in the fall (during the annual Medicare Open Enrollment Period)

• Focus only on non-redundant individuals (i.e., a random sample without replacement of individuals who receive SHIP counseling).

• Randomly select 18 states and territories to be surveyed each year, with the states stratified by data collection method* and the size of the Medicare-eligible population.

* Data collection method refers to how each state collects and enters its records of counseling sessions. The majority of states (29 of 54) directly enter counseling records into SHIP's NPR reporting system, but the remaining states upload data in batches at the end of each month. To ensure that the batch upload states will be able to pull weekly samples twice per year, we will limit these states to Years 2 and 3 of the survey administration period, thereby allowing for technical assistance to these states, if necessary.

To generate a sample with a 95% confidence level at the national level 400 responses will be required (n = 3,000,000 counseling sessions in 2015). SHIP anticipates collecting 75 completed surveys per state, for a total collection of 4,050 completed surveys. This larger collection will enable ACL to make state-to-state comparisons, which is an important feature of this survey. It will also provide each state with sufficient information to take local action to improve service within budgetary constraints.

OMB approval is requested for 3 years. There are no costs to respondents other than their time. The average annual burden associated with these activities is summarized below:

Respondent type | Number of respondents | Responses per respondent | Average burden hours per response (hours) | Total average annual burden (hours)
Stratified Random Sample | 1,350 | 1 | * 8 | 180
* Minutes.

Dated: June 21, 2016.
Kathy Greenlee,
Administrator and Assistant Secretary for Aging.

[FR Doc. 2016-15307 Filed 6-27-16; 8:45 am]

BILLING CODE 4154-01-P